DEPARTMENT OF ENERGY

Federal Energy Regulatory Commission

[Docket No. EL03-38-000]

Cargill Power Markets, LLC, Complainant, v. Midwest Independent Transmission System Operator, Inc., Respondent; Notice of Complaint Requesting Fast Track Processing

January 3, 2003.

Take notice that on December 31, 2002, Cargill Power Markets, LLC (CPM), filed with the Federal Energy Regulatory Commission (Commission), a complaint against Midwest Independent Transmission System Operator, Inc. (MISO) requesting fast track processing by the Commission. CPM alleges that MISO has violated its open access transmission tariff and Commission policy by recalling CPM's confirmed Long-Term Firm Point-to-Point reservation.

CPM states that a copy of its complaint was served on MISO.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before January 15, 2003. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Magalie R. Salas,
Secretary.

[FR Doc. 03-466 Filed 1-9-03; 8:45 am]

BILLING CODE 6717-01-P